DEPARTMENT OF THE INTERIOR

Office of the Special Trustee for American Indians

[15XD0120AF.DT21200000.DST000000.T7AC00.241A]

Proposed Renewal of Information Collection: OMB Control Number 1035-0003, Application To Withdraw Tribal Funds From Trust Status

AGENCY: Office of the Special Trustee for American Indians, Interior.

ACTION: Notice and request for comments.

SUMMARY: In compliance with section 3506(c)(2)(A) of the Paperwork Reduction Act of 1995, the Office of the Special Trustee for American Indians, Department of the Interior, announces the proposed renewal of a public information collection required by The American Indian Trust Fund Management Reform Act of 1994, “Application to Withdraw Tribal Funds from Trust Status, 25 CFR 1200,” OMB Control No. 1035-0003, and that it is seeking comments on its provisions. After public review, the Office of the Special Trustee for American Indians will submit the information collection to Office of Management and Budget for renewal.

DATES: Consideration will be given to all comments received by December 18, 2015.

ADDRESSES: Send your written comments to the Office of the Special Trustee, Office of External Affairs, Attn: Roberson D. Becenti, 4400 Masthead St. NE., Room 259A, Albuquerque, New Mexico 87109. You may also email comments to roberson_becenti@ost.doi.gov. Individuals providing comments should reference OMB control number 1035-0003, “Application to Withdraw Tribal Funds from Trust Status, 25 CFR 1200.”

FOR FURTHER INFORMATION CONTACT: To request a copy of the information collection request, any explanatory information and related forms, see the contact information provided in the ADDRESSES section above.

SUPPLEMENTARY INFORMATION:

I. Abstract

This notice is for renewal of information collection.

The Office of Management and Budget (OMB) regulations at 5 CFR part 1320, which implement the Paperwork Reduction Act of 1995, 44 U.S.C. 3501 et seq., require that interested members of the public and affected agencies have an opportunity to comment on information collection and recordkeeping activities (see 5 CFR 1320.8 (d)). This notice identifies an information collection activity that the Office of the Special Trustee for American Indians is submitting to OMB for renewal.

Public Law 103-412, The American Indian Trust Fund Management Reform Act of 1994, allows Indian tribes on a voluntary basis to take their funds out of trust status within the Department of the Interior (and the Federal Government) in order to manage such funds on their own. 25 CFR part 1200, subpart B, Sec. 1200.13, “How does a tribe apply to withdraw funds?” describes the requirements for application for withdrawal. The Act covers all tribal trust funds including judgment funds as well as some settlements funds, but excludes funds held in Individual Indian Money accounts. Both the Act and the regulations state that upon withdrawal of the funds, the Department of the Interior (and the Federal Government) have no further liability for such funds. Accompanying their application for withdrawal of trust funds, tribes are required to submit a Management Plan for managing the funds being withdrawn, to protect the funds once they are out of trust status.

This information collection allows the Office of the Special Trustee to collect the tribes' applications for withdrawal of funds held in trust by the Department of the Interior. If this information were not collected, the Office of the Special Trustee would not be able to comply with the American Indian Trust Fund Management Reform Act of 1994, and tribes would not be able to withdraw funds held for them in trust by the Department of the Interior.

II. Data

(1) Title: Application to Withdraw Tribal Funds from Trust Status, 25 CFR

1200.

OMB Control Number: 1035-0003.

Current Expiration Date: January 31, 2016.

Type of Review: Information Collection Renewal.

Affected Entities: Tribal Governments.

Estimated annual number of respondents: One respondent on average, every three years.

Frequency of responses: Once per tribe per trust fund withdrawal application.

(2) Annual reporting and recordkeeping burden:

Total annual reporting per response: 750 hours.

Total number of estimated responses: 1.

Total annual reporting: 750 hours.

(3) Description of the need and use of the information: The statutorily required information is needed to provide a vehicle for tribes to withdraw funds from accounts held in trust for them by the United States Government.

III. Request for Comments

The Departments invite comments on:

(a) Whether the collection of information is necessary for the proper performance of the functions of the agencies, including whether the information will have practical utility;

(b) The accuracy of the agencies' estimate of the burden of the collection of information and the validity of the methodology and assumptions used;

(c) Ways to enhance the quality, utility, and clarity of the information to be collected; and

(d) Ways to minimize the burden of the collection of information on respondents, including through the use of appropriate automated, electronic, mechanical, or other collection techniques or other forms of information technology.

“Burden” means the total time, effort, and financial resources expended by persons to generate, maintain, retain, disclose, or provide information to or for a Federal agency. This includes the time needed to review instructions; to develop, acquire, install, and use technology and systems for the purposes of collecting, validating, and verifying information, processing and maintaining information, and disclosing and providing information; to train personnel and to be able to respond to a collection of information, to search data sources, and to complete and review the collection of information; and to transmit or otherwise disclose the information.

It is our policy to make all comments available to the public for review. Before including Personally Identifiable Information (PII), such as your address, phone number, email address, or other personal information in your comments(s), you should be aware that your entire comment (including PII) may be made available to the public at any time. While you may ask us in your comment to withhold PII from public view, we cannot guarantee that we will be able to do so. If you wish to view any comments received, you may do so by scheduling an appointment with the Office of the Special Trustee for American Indians by using the contact information in the ADDRESSES section above. A valid picture identification is required for entry into the Department of the Interior.

Comments submitted in response to this notice will be summarized and/or included in the request for OMB approval of this information collection; they also will become a matter of public record.

An agency may not conduct or sponsor, and a person is not required to respond to, a collection of information unless it displays a currently valid Office of Management and Budget control number.

Dated: October 8, 2015.
David Beeksma,
Director, Office of External Affairs, Office of the Special Trustee for American Indians.

[FR Doc. 2015-26448 Filed 10-16-15; 8:45 am]

BILLING CODE 43134-63-P